ENVIRONMENTAL PROTECTION AGENCY

40 CFR Part 52

[EPA-R09-OAR-2018-0160; FRL-9980-17—Region 9]

Air Plan Approval; California; Yolo-Solano Air Quality Management District; Negative Declarations

AGENCY: Environmental Protection Agency (EPA).

ACTION: Final rule.

SUMMARY: The Environmental Protection Agency (EPA) is taking final action to approve a revision to the Yolo-Solano Air Quality Management District (YSAQMD or “District”) portion of the California State Implementation Plan (SIP). This revision concerns the District's negative declarations for several volatile organic compound (VOC) source categories included in its Reasonably Available Control Technology (RACT) State Implementation Plan Analysis. We are approving these negative declarations under the Clean Air Act (CAA or “the Act”).

DATES: This rule is effective on August 2, 2018.

ADDRESSES: The EPA has established a docket for this action under Docket ID No. EPA-R09-OAR-2018-0160. All documents in the docket are listed on the https://www.regulations.gov website. Although listed in the index, some information is not publicly available, e.g., Confidential Business Information or other information whose disclosure is restricted by statute. Certain other material, such as copyrighted material, is not placed on the internet and will be publicly available only in hard copy form. Publicly available docket materials are available through https://www.regulations.gov, or please contact the person identified in the FOR FURTHER INFORMATION CONTACT section for additional availability information.

FOR FURTHER INFORMATION CONTACT: Stanley Tong, EPA Region IX, (415) 947-4122, tong.stanley@epa.gov.

SUPPLEMENTARY INFORMATION: Throughout this document, “we,” “us” and “our” refer to the EPA.

Table of Contents

I. Proposed Action

II. Public Comments and EPA Responses

III. EPA Action

IV. Statutory and Executive Order Reviews

I. Proposed Action

On September 13, 2017, YSAQMD adopted its Reasonably Available Control Technology State Implementation Plan (RACT SIP) Analysis for the 2008 ozone National Ambient Air Quality Standards (NAAQS). Included in the District's RACT SIP analysis were several negative declarations where the District stated that it did not have sources subject to the Control Techniques Guidelines (CTG) documents listed below in Table 1. The District's RACT SIP further stated that the negative declarations were for the 1997 and 2008 ozone NAAQS. On November 13, 2017, the California Air Resources Board submitted YSAQMD's RACT SIP, including the following negative declarations, to the EPA as a SIP revision.

Table 1—Submitted Negative Declarations ¹
CTG document | CTG document title
EPA-450/2-77-008 | Control of Volatile Organic Emissions from Existing Stationary Sources—Volume II: Surface Coating of Cans, Coils, Paper, Fabrics, Automobiles, and Light-Duty Trucks.
EPA-450/2-77-025 | Control of Refinery Vacuum Producing Systems, Wastewater Separators, and Process Unit Turnarounds.
EPA-450/2-77-032 | Control of Volatile Organic Emissions from Existing Stationary Sources—Volume III: Surface Coating of Metal Furniture.
EPA-450/2-77-033 | Control of Volatile Organic Emissions from Existing Stationary Sources—Volume IV: Surface Coating of Insulation of Magnet Wire.
EPA-450/2-77-034 | Control of Volatile Organic Emissions from Existing Stationary Sources—Volume V: Surface Coating of Large Appliances.
EPA-450/2-77-036 | Control of Volatile Organic Emissions from Storage of Petroleum Liquids in Fixed-Roof Tanks.
EPA-450/2-78-029 | Control of Volatile Organic Emissions from Manufacture of Synthesized Pharmaceutical Products.
EPA-450/2-78-030 | Control of Volatile Organic Emissions from Manufacture of Pneumatic Rubber Tires.
EPA-450/2-78-032 | Control of Volatile Organic Emissions from Existing Stationary Sources—Volume VII: Factory Surface Coating of Flat Wood Paneling.
EPA-450/2-78-033 | Control of Volatile Organic Emissions from Existing Stationary Sources—Volume VIII: Graphic Arts-Rotogravure and Flexography.
EPA-450/2-78-036 | Control of Volatile Organic Compound Leaks from Petroleum Refinery Equipment.
EPA-450/3-82-009 | Control of Volatile Organic Compound Emissions from Large Petroleum Dry Cleaners.
EPA-450/3-83-006 | Control of Volatile Organic Compound Leaks from Synthetic Organic Chemical Polymer and Resin Manufacturing Equipment.
EPA-450/3-83-007 | Control of Volatile Organic Compound Equipment Leaks from Natural Gas/Gasoline Processing Plants.
EPA-450/3-83-008 | Control of Volatile Organic Compound Emissions from Manufacture of High-Density Polyethylene, Polypropylene, and Polystyrene Resins.
EPA-450/3-84-015 | Control of Volatile Organic Compound Emissions from Air Oxidation Processes in Synthetic Organic Chemical Manufacturing Industry.
EPA-450/4-91-031 | Control of Volatile Organic Compound Emissions from Reactor Processes and Distillation Operations in Synthetic Organic Chemical Manufacturing Industry.
EPA-453/R-96-007 | Control of Volatile Organic Compound Emissions from Wood Furniture Manufacturing Operations.
61 FR-44050 8/27/96 | Control Techniques Guidelines for Shipbuilding and Ship Repair Operations (Surface Coating).
EPA-453/R-97-004 | Aerospace (CTG & MACT).
EPA-453/R-06-003 | Control Techniques Guidelines for Flexible Package Printing.
EPA-453/R-06-004 | Control Techniques Guidelines for Flat Wood Paneling Coatings.
EPA 453/R-07-003 | Control Techniques Guidelines for Paper, Film, and Foil Coatings.
EPA 453/R-07-004 | Control Techniques Guidelines for Large Appliance Coatings.
EPA 453/R-07-005 | Control Techniques Guidelines for Metal Furniture Coatings.
EPA 453/R-08-005 | Control Techniques Guidelines for Miscellaneous Industrial Adhesives.
EPA 453/R-08-006 | Control Techniques Guidelines for Automobile and Light-Duty Truck Assembly Coatings.
EPA 453/R-08-003 | Control Techniques Guidelines for Miscellaneous Metal and Plastic Parts Coatings (plastic parts portion only).
EPA 453/B-16-001 | Control Techniques Guidelines for the Oil and Natural Gas Industry.
¹ Negative declarations are for the 1997 and 2008 8-hour ozone NAAQS.

On May 9, 2018 (83 FR 21235), the EPA proposed to approve YSAQMD's negative declarations for the 1997 and 2008 ozone NAAQS into the California SIP. We proposed to approve these negative declarations because we determined that they comply with the relevant CAA requirements. Our proposed action contains more information on the negative declarations and our evaluation.

II. Public Comments and EPA Responses

The EPA's proposed action provided a 30-day public comment period. During this period, we received two anonymous comments that were outside the scope of this rulemaking. Neither of the comments were germane to our evaluation of YSAQMD's negative declarations.

III. EPA Action

No comments were submitted that change our assessment of the suitability of the negative declarations in our proposed action and duplicated in Table 1 above. Therefore, as authorized in section 110(k)(3) of the Act, the EPA is fully approving these negative declarations for the 1997 and 2008 ozone NAAQS into the California SIP.

IV. Statutory and Executive Order Reviews

Under the Clean Air Act, the Administrator is required to approve a SIP submission that complies with the provisions of the Act and applicable Federal regulations. 42 U.S.C. 7410(k); 40 CFR 52.02(a). Thus, in reviewing SIP submissions, the EPA's role is to approve state choices, provided that they meet the criteria of the Clean Air Act. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide the EPA with the discretionary authority to address, as appropriate, disproportionate human health or environmental effects, using practicable and legally permissible methods, under Executive Order 12898 (59 FR 7629, February 16, 1994).

In addition, the SIP is not approved to apply on any Indian reservation land or in any other area where the EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by September 4, 2018. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Nitrogen dioxide, Ozone, Reporting and recordkeeping requirements, Volatile organic compounds.

Dated: June 20, 2018.
Michael Stoker,
Regional Administrator, Region IX.

Part 52, chapter I, title 40 of the Code of Federal Regulations is amended as follows:

PART 52—APPROVAL AND PROMULGATION OF IMPLEMENTATION PLANS

1. The authority citation for part 52 continues to read as follows:

Authority: 42 U.S.C. 7401 et seq.

Subpart F—California

2. Section 52.220 is amended by adding paragraph (c)(505) to read as follows:

§ 52.220 Identification of plan—in part.

* * * * *

(c) * * *

(505) The following plan was submitted on November 13, 2017 by the Governor's designee.

(i) [Reserved]

(ii) Additional materials. (A) Yolo-Solano Air Quality Management District.

(1) Reasonably Available Control Technology (RACT) State Implementation Plan (SIP) Analysis: “Table 3—CTG Categories for Which YSAQMD Will Adopt a Negative Declaration,” adopted on September 13, 2017.

3. Section 52.222 is amended by adding paragraph (a)(14)(ii) to read as follows:

§ 52.222 Negative declarations.

(a) * * *

(14) * * *

(ii) The following negative declarations are for the 1997 and 2008 8-hour ozone NAAQS and were adopted by the District on September 13, 2017 and submitted as part of Yolo-Solano AQMD's RACT SIP on November 13, 2017.

CTG source category | Negative declaration CTG reference document
Aerospace | EPA-453/R-97-004 Aerospace (CTG & MACT).
Automobile and Light-Duty Truck Assembly Coatings | EPA-450/2-77-008 Control of Volatile Organic Emissions from Existing Stationary Sources—Volume II: Surface Coating of Cans, Coils, Paper, Fabrics, Automobiles, and Light-Duty Trucks.
Automobile and Light-Duty Truck Assembly Coatings | EPA 453/R-08-006 Control Techniques Guidelines for Automobile and Light-Duty Truck Assembly Coatings.
Dry Cleaning | EPA-450/3-82-009 Control of Volatile Organic Compound Emissions from Large Petroleum Dry Cleaners.
Flat Wood Paneling Coatings | EPA-450/2-78-032 Control of Volatile Organic Emissions from Existing Stationary Sources—Volume VII: Factory Surface Coating of Flat Wood Paneling.
Flat Wood Paneling Coatings | EPA-453/R-06-004 Control Techniques Guidelines for Flat Wood Paneling Coatings.
Flexible Package Printing | EPA-453/R-06-003 Control Techniques Guidelines for Flexible Package Printing.
Graphic Arts Rotogravure and Flexography | EPA-450/2-78-033 Control of Volatile Organic Emissions from Existing Stationary Sources—Volume VIII: Graphic Arts-Rotogravure and Flexography.
Large Appliance Coating | EPA-450/2-77-034 Control of Volatile Organic Emissions from Existing Stationary Sources—Volume V: Surface Coating of Large Appliances.
Large Appliance Coating | EPA 453/R-07-004 Control Techniques Guidelines for Large Appliance Coatings.
Magnet Wire Coating | EPA-450/2-77-033 Control of Volatile Organic Emissions from Existing Stationary Sources—Volume IV: Surface Coating of Insulation of Magnet Wire.
Metal Can Coating; Metal Coil Coating | EPA-450/2-77-008 Control of Volatile Organic Emissions from Existing Stationary Sources—Volume II: Surface Coating of Cans, Coils, Paper, Fabrics, Automobiles, and Light-Duty Trucks.
Metal Furniture Coatings | EPA-450/2-77-032 Control of Volatile Organic Emissions from Existing Stationary Sources—Volume III: Surface Coating of Metal Furniture.
Metal Furniture Coatings | EPA 453/R-07-005 Control Techniques Guidelines for Metal Furniture Coatings.
Miscellaneous Industrial Adhesives | EPA 453/R-08-005 Control Techniques Guidelines for Miscellaneous Industrial Adhesives.
Miscellaneous Metal and Plastic Parts | EPA 453/R-08-003 Control Techniques Guidelines for Miscellaneous Metal and Plastic Parts Coatings (plastic parts portion only).
Natural Gas/Gasoline | EPA-450/3-83-007 Control of Volatile Organic Compound Equipment Leaks from Natural Gas/Gasoline Processing Plants.
Oil and Gas Industry | EPA 453/B-16-001 Control Techniques Guidelines for the Oil and Natural Gas Industry.
Paper and Fabric Coating | EPA-450/2-77-008 Control of Volatile Organic Emissions from Existing Stationary Sources—Volume II: Surface Coating of Cans, Coils, Paper, Fabrics, Automobiles, and Light-Duty Trucks.
Paper, Film, and Foil Coatings | EPA 453/R-07-003 Control Techniques Guidelines for Paper, Film, and Foil Coatings.
Petroleum Liquid Storage Tanks | EPA-450/2-77-036 Control of Volatile Organic Emissions from Storage of Petroleum Liquids in Fixed-Roof Tanks.
Resin Manufacturing | EPA-450/3-83-008 Control of Volatile Organic Compound Emissions from Manufacture of High-Density Polyethylene, Polypropylene, and Polystyrene Resins.
Resin Manufacturing | EPA-450/3-83-006 Control of Volatile Organic Compound Leaks from Synthetic Organic Chemical Polymer and Resin Manufacturing Equipment.
Pharmaceutical Products | EPA-450/2-78-029 Control of Volatile Organic Emissions from Manufacture of Synthesized Pharmaceutical Products.
Refineries | EPA-450/2-78-036 Control of Volatile Organic Compound Leaks from Petroleum Refinery Equipment.
Refineries | EPA-450/2-77-025 Control of Refinery Vacuum Producing Systems, Wastewater Separators, and Process Unit Turnarounds.
Rubber Tire Manufacturing | EPA-450/2-78-030 Control of Volatile Organic Emissions from Manufacture of Pneumatic Rubber Tires.
Ship Coatings | 61 FR-44050 8/27/96 Control Techniques Guidelines for Shipbuilding and Ship Repair Operations (Surface Coating).
Synthetic Organic Chemical Manufacturing | EPA-450/3-84-015 Control of Volatile Organic Compound Emissions from Air Oxidation Processes in Synthetic Organic Chemical Manufacturing Industry.
Synthetic Organic Chemical Manufacturing | EPA-450/4-91-031 Control of Volatile Organic Compound Emissions from Reactor Processes and Distillation Operations in Synthetic Organic Chemical Manufacturing Industry.
Wood Furniture Coating | EPA-453/R-96-007 Control of Volatile Organic Compound Emissions from Wood Furniture Manufacturing Operations.

* * * * *

[FR Doc. 2018-14197 Filed 7-2-18; 8:45 am]

BILLING CODE 6560-50-P